DEPARTMENT OF ENERGY

Federal Energy Regulatory Commission

[Project No. 6115-016]

Pyrites Hydro, LLC; Notice of Waiver Period for Water Quality Certification Application

On August 3, 2023, Pyrites Hydro, LLC submitted to the Federal Energy Regulatory Commission (Commission) a copy of its application for a Clean Water Act section 401(a)(1) water quality certification filed with the New York State Department of Environmental Conservation (New York DEC), in conjunction with the above captioned project. Pursuant to 40 CFR 121.6 and section 4.34(b)(5) of the Commission's regulations,¹ we hereby notify New York DEC of the following:

¹ 18 CFR 4.34(b)(5).

Date of Receipt of the Certification Request: August 3, 2023.

Reasonable Period of Time to Act on the Certification Request: One year, August 3, 2024.

If New York DEC fails or refuses to act on the water quality certification request on or before the above date, then the agency certifying authority is deemed waived pursuant to section 401(a)(1) of the Clean Water Act, 33 U.S.C. 1341(a)(1).

Dated: August 21, 2023.
Kimberly D. Bose,
Secretary.

[FR Doc. 2023-18393 Filed 8-24-23; 8:45 am]

BILLING CODE 6717-01-P